NATIONAL SCIENCE FOUNDATION

Committee Management Renewals

The National Science Foundation (NSF) management officials having responsibility for the advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Biological Sciences, #1110

Advisory Committee for Cyberinfrastructure, #25150

Advisory Committee for STEM Education, #1119 (formerly, the Advisory Committee for Education and Human Resources)

Advisory Committee for Engineering, #1170

Advisory Committee for Geosciences, #1755

Advisory Committee for Integrative Activities, #1373

Alan T. Waterman Award Committee, #1172

Proposal Review Panel for Atmospheric and Geospace Sciences, #10751

Proposal Review Panel for Behavioral and Cognitive Sciences, #10747

Proposal Review Panel for Biological Infrastructure, #10743

Proposal Review Panel for Earth Sciences, #1569

Proposal Review Panel for Emerging Frontiers in Biological Sciences, #44011

Proposal Review Panel for Environmental Biology, #10744

Proposal Review Panel for Geosciences, #1756

Proposal Review Panel for Integrative Organismal Systems, #10745

Proposal Review Panel for Molecular and Cellular Biosciences, #10746

Proposal Review Panel for Ocean Sciences, #10752

Proposal Review Panel for Research on Learning in Formal and Informal Settings, #59

Proposal Review Panel for Social, Behavioral and Economic Sciences, #1766

Proposal Review Panel for Social and Economic Sciences, #10748

Proposal Review Panel for Integrative Activities, #2469

Proposal Review Panel for International Science and Engineering, #10749

Proposal Review Panel for Equity for Excellence in STEM, #1199 (formerly, the Proposal Review Panel for Human Resource Development)

Effective date for renewal is June 28, 2023. For more information, please contact Crystal Robinson, NSF, at (703) 292-8687.

Dated: June 28, 2023.
Crystal Robinson,
Committee Management Officer.

[FR Doc. 2023-14039 Filed 6-30-23; 8:45 am]

BILLING CODE 7555-01-P